POSTAL SERVICE

Sunshine Act Meetings

TIME AND DATE: Thursday, August 7, 2025, at 9:00 a.m.; and Thursday, August 7, 2025, at 3:00 p.m.

PLACE: Washington, DC, at U.S. Postal Service Headquarters, 475 L'Enfant Plaza SW, in the Benjamin Franklin Room.

STATUS: Thursday, August 7, 2025, at 9:00 a.m.—Closed. Thursday, August 7, 2025, at 3:00 p.m.—Open.

MATTERS TO BE CONSIDERED:

Meeting of the Board of Governors

Thursday, August 7, 2025, at 9:00 a.m. (Closed)

1. Strategic Matters.

2. Financial and Operational Matters.

3. Administrative Matters.

Thursday, August 7, 2025, at 3:00 p.m. (Open)

1. Remarks of the Chairwoman of the Board of Governors.

2. Remarks of the Postmaster General and CEO.

3. Approval of the Meeting Minutes.

4. Committee Reports.

5. Quarterly Financial Report.

6. Quarterly Service Performance Report.

7. Approval of Tentative Agenda for November 14 Open Meeting.

General Counsel Certification: The General Counsel of the United States Postal Service has certified that the meeting may be closed under the Government in the Sunshine Act, 5 U.S.C. 552b.

CONTACT PERSON FOR MORE INFORMATION: Lucy C. Trout, Acting Secretary of the Board of Governors, U.S. Postal Service, 475 L'Enfant Plaza SW, Washington, DC 20260-1000. Telephone: (202) 268-4800.

Lucy C. Trout,
Acting Secretary.

[FR Doc. 2025-13913 Filed 7-22-25; 11:15 am]

BILLING CODE 7710-12-P